TENNESSEE VALLEY AUTHORITY

Sunshine Act Meetings

TIME AND DATE: 9:00 a.m. ET on February 13, 2025.

PLACE: Knoxville Office Complex, Knoxville, Tennessee.

STATUS: Open.

MATTERS TO BE CONSIDERED:

Meeting No. 25-01

The TVA Board of Directors will hold a public meeting on February 13 at TVA's Knoxville Office Complex, 400 West Summit Hill Drive, Knoxville, Tennessee. The meeting will be called to order at 9:00 a.m. ET to consider the agenda items listed below.

On February 12, at the Knoxville Office Complex, the public may comment on any agenda item or subject at a Board-hosted public listening session which begins at 2:00 p.m. ET and will last until 4:00 p.m. Preregistration is required to address the Board.

Agenda

1. Approval of Minutes of the November 7, 2024 Board Meeting

2. Report of the Finance, Rates, and Portfolio Committee

A. Shawnee SO2 Controls project

3. Report of the External Stakeholders and Regulation Committee

A. Surplus/Disposal Decision for Certain Land and Buildings in Downtown Chattanooga (Missionary Ridge and Blue Ridge)

4. Report of the Audit, Risk, and Cybersecurity Committee

5. Report of the Operations and Nuclear Oversight Committee

6. Report of the People and Governance Committee

A. Selection of Chair Elect to serve a two-year term commencing on May 19, 2025

7. Information Items

A. Grid Resiliency and Innovation Partnerships Grants

B. Committee Assignments

C. TVA Board Working Group Solely Related to Internal Personnel Practices

8. Report from President and CEO

CONTACT PERSON FOR MORE INFORMATION: For more information: Please contact Melissa Greene, TVA Media Relations at (865) 632-6000, Knoxville, Tennessee. Anyone who wishes to comment on any of the agenda in writing may send their comments to: TVA Board of Directors, Board Agenda Comments, 400 West Summit Hill Drive, Knoxville, Tennessee 37902.

Dated: February 6, 2025.
Edward C. Meade,
Agency Liaison.

[FR Doc. 2025-02614 Filed 2-10-25; 4:15 pm]

BILLING CODE 8120-08-P